DEPARTMENT OF TRANSPORTATION

Federal Aviation Administration

14 CFR Part 39

[Docket No. FAA-2006-26462; Directorate Identifier 2006-NM-221-AD]

RIN 2120-AA64

Airworthiness Directives; Empresa Brasileira de Aeronautica S.A. (EMBRAER) Model ERJ 170-100 LR, -100 STD, -100 SE, -100 SU, -200 LR, -200 STD, and -200 SU Airplanes and Model ERJ 190 Airplanes

AGENCY: Federal Aviation Administration (FAA), Department of Transportation (DOT).

ACTION: Notice of proposed rulemaking (NPRM).

SUMMARY: The FAA proposes to adopt a new airworthiness directive (AD) for certain EMBRAER Model ERJ 170-100 LR, -100 STD, -100 SE, -100 SU, -200 LR, -200 STD, and -200 SU airplanes and Model ERJ 190 airplanes. This proposed AD would require inspecting to determine the part number and serial number of the deployment actuator of the ram air turbine (RAT) and related investigative and corrective actions if necessary. This proposed AD results from reports that the RAT may not fully deploy due to galling between the piston rod and gland housing of the deployment actuator. We are proposing this AD to prevent the RAT from failing to deploy, which could result in loss of control of the airplane during in-flight emergencies.

DATES: We must receive comments on this proposed AD by January 8, 2007.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility, U.S. Department of Transportation, 400 Seventh Street, SW., Nassif Building, Room PL-401, Washington, DC 20590.

• Fax: (202) 493-2251.

• Hand Delivery: Room PL-401 on the plaza level of the Nassif Building, 400 Seventh Street, SW., Washington, DC, between 9 a.m. and 5 p.m., Monday through Friday, except Federal holidays.

Contact Empresa Brasileira de Aeronautica S.A. (EMBRAER), P.O. Box 343-CEP 12.225, Sao Jose dos Campos-SP, Brazil, for service information identified in this proposed AD.

FOR FURTHER INFORMATION CONTACT: Todd Thompson, Aerospace Engineer, International Branch, ANM-116, Transport Airplane Directorate, FAA, 1601 Lind Avenue, SW., Renton, Washington 98057-3356; telephone (425) 227-1175; fax (425) 227-1149.

SUPPLEMENTARY INFORMATION:

Comments Invited

We invite you to submit any relevant written data, views, or arguments regarding this proposed AD. Send your comments to an address listed in the ADDRESSES section. Include the docket number “FAA-2006-26462; Directorate Identifier 2006-NM-221-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed AD. Using the search function of that Web site, anyone can find and read the comments in any of our dockets, including the name of the individual who sent the comment (or signed the comment on behalf of an association, business, labor union, etc.). You may review the DOT's complete Privacy Act Statement in the Federal Register published on April 11, 2000 (65 FR 19477-78), or you may visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System receives them.

Discussion

The Agência Nacional de Aviação Civil (ANAC), which is the airworthiness authority for Brazil, notified us that an unsafe condition may exist on all EMBRAER Model ERJ 170 and ERJ 190 airplanes. The ANAC advises that it has received reports that the ram air turbine (RAT) may not fully deploy due to galling between the piston rod and gland housing of the deployment actuator. The galling resulted in material becoming wedged between the piston rod and the gland housing. This condition, if not corrected, could lead to the RAT failing to deploy, which could result in loss of control of the airplane during in-flight emergencies.

Relevant Service Information

EMBRAER has issued Service Bulletins 170-24-0026 and 190-24-0003, both dated December 22, 2005. The service bulletins describe procedures for inspecting to determine the part number (P/N) and serial number (S/N) of the RAT deployment actuator. For deployment actuators having P/N 1703785 and S/N 0004, 0005, or 0101 through 0190 inclusive, the service bulletins describe procedures for investigative and corrective actions, including:

• Deploying the RAT and inspecting for evidence of galling between the piston rod and gland housing of the deployment actuator;

• Repeating the inspection of the actuator of any RAT that fully deploys and displays no evidence of galling as specified above, until that actuator is replaced with a modified and reidentified or new, improved actuator, which eliminates the need for the repetitive inspections only for that actuator;

• Replacing the deployment actuator of any RAT that fails to fully deploy or that displays any evidence of galling, as specified above, with a modified and reidentified or new, improved actuator; and

• Eventually replacing all subject actuators with modified and reidentified or new, improved actuators, which eliminates the need for the repetitive inspections for all subject actuators.

For actuators having P/N 1703785 and S/Ns 0191 through 0242 inclusive, the service bulletins describe procedures for re-identifying the actuators.

Accomplishing the actions specified in the service information is intended to adequately address the unsafe condition. The ANAC mandated the service information and issued Brazilian airworthiness directives 2006-05-06, effective June 14, 2006, and 2006-05-09, effective June 19, 2006, to ensure the continued airworthiness of these airplanes in Brazil.

The EMBRAER service bulletins refer to Hamilton Sundstrand Service Bulletin ERPS37A-24-1, dated December 6, 2005, as an additional source of service information for inspecting for galling of the piston rod of the RAT deployment actuator and re-identifying the actuator. The Hamilton Sundstrand service bulletin is included as Appendix 1 of the EMBRAER service bulletins.

FAA's Determination and Requirements of the Proposed AD

These airplane models are manufactured in Brazil and are type certificated for operation in the United States under the provisions of section 21.29 of the Federal Aviation Regulations (14 CFR 21.29) and the applicable bilateral airworthiness agreement. Pursuant to this bilateral airworthiness agreement, the ANAC has kept the FAA informed of the situation described above. We have examined the ANAC's findings, evaluated all pertinent information, and determined that we need to issue an AD for airplanes of this type design that are certificated for operation in the United States.

Therefore, we are proposing this AD, which would require doing the actions described previously, except as discussed under “Differences Among the Proposed AD, the Brazilian Airworthiness Directives, and the Service Information.”

Differences Among the Proposed AD, the Brazilian Airworthiness Directives, and the Service Information

The EMBRAER service bulletins specify to inspect for galling between the piston rod and gland housing in the deployment actuator; however, this proposed AD would require a “general visual inspection” for such galling. We have included a definition of this type of inspection in Note 2 of this proposed AD.

Costs of Compliance

The following table provides the estimated costs for U.S. operators to comply with this proposed AD, at an average labor rate of $80 per hour.

Estimated Costs
Action | Work hours | Cost per airplane | Number of U.S.-registered airplanes | Fleet cost
Inspection to determine part and serial numbers | 1 | $80 | 76 | $6,080.
Inspection of piston rod | 1 | $80, per inspection cycle | Up to 76 | Up to $6,080, per inspection cycle.
Replacement of RAT deployment actuator | 4 | $320 | Up to 76 | Up to $24,320.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

Empresa Brasileira de Aeronautica S.A. (EMBRAER): Docket No. FAA-2006-26462; Directorate Identifier 2006-NM-221-AD.

Comments Due Date

(a) The FAA must receive comments on this AD action by January 8, 2007.

Affected ADs

(b) None.

Applicability

(c) This AD applies to all EMBRAER Model ERJ 170-100 LR, -100 STD, -100 SE, -100 SU, -200 LR, -200 STD, and -200 SU airplanes, as identified in EMBRAER Service Bulletin 170-24-0026, dated December 22, 2005; and Model ERJ 190-100 STD, -100 LR, and -100 IGW airplanes, as identified in EMBRAER Service Bulletin 190-24-0003, dated December 22, 2005; certificated in any category.

Unsafe Condition

(d) This AD results from reports that the ram air turbine (RAT) may not fully deploy due to galling between the piston rod and gland housing of the RAT deployment actuator. We are issuing this AD to prevent the RAT from failing to deploy, which could result in loss of control of the airplane during in-flight emergencies.

Compliance

(e) You are responsible for having the actions required by this AD performed within the compliance times specified, unless the actions have already been done.

Service Bulletin Reference

(f) The term “service bulletin,” as used in this AD, means the Accomplishment Instructions of the service bulletins identified in paragraphs (f)(1) and (f)(2) of this AD. Where these service bulletins specify returning affected parts to Hamilton Sundstrand, this AD does not require that action.

(1) For Model ERJ 170-100 LR, -100 STD, -100 SE, and -100 SU airplanes: EMBRAER Service Bulletin 170-24-0026, dated December 22, 2005.

(2) For Model ERJ 190-100 STD, -100 LR, and -100 IGW airplanes: EMBRAER Service Bulletin 190-24-0003, dated December 22, 2005.

Note 1: The EMBRAER service bulletins refer to Hamilton Sundstrand Service Bulletin ERPS37A-24-1, dated December 6, 2005, as an additional source of service information for inspecting for galling of the piston rod of the RAT deployment actuator and re-identifying the actuator. The Hamilton Sundstrand service bulletin is included as Appendix 1 of the EMBRAER service bulletins.

Inspection To Determine Part Number (P/N) and Serial Number (S/N)

(g) Within 600 flight hours or 3 months after the effective date of this AD, whichever occurs first: Inspect to determine the part number and serial number of the RAT deployment actuator, in accordance with the applicable service bulletin. A review of airplane maintenance records is acceptable in lieu of this inspection if the part number and serial number of the RAT deployment actuator can be conclusively determined from that review.

(1) If the part number of the actuator is not P/N 1703785: No further action is required by this AD, except as provided by paragraph (i) of this AD.

(2) If the part number of the actuator is P/N 1703785 and the serial number is S/N 0004, 0005, or 0101 through 0190 inclusive, or the part number or serial number cannot be conclusively determined: Within 600 flight hours or 3 months after the effective date of this AD, whichever occurs first, deploy the RAT, and do the actions specified in paragraph (g)(2)(i) or (g)(2)(ii) of this AD, as applicable, in accordance with the applicable service bulletin.

(i) If the RAT does not fully deploy or if it deploys with hesitation: Before further flight, replace the RAT deployment actuator with a modified and reidentified or new, improved actuator, having P/N 1703785A.

(ii) If the RAT fully deploys without hesitation: Before further flight, perform a general visual inspection for galling of the piston rod of the RAT deployment actuator. If no evidence of galling is detected, repeat the inspection for galling at intervals not to exceed 1,200 flight hours or 5 months, whichever occurs first, and before further flight after each deployment of the RAT. If any evidence of galling is found, before further flight, replace the RAT deployment actuator with a modified and reidentified or new, improved RAT deployment actuator having P/N 1703785A. Replacing the RAT deployment actuator terminates the repetitive inspections required by this paragraph for that RAT deployment actuator only.

Note 2: For the purposes of this AD, a general visual inspection is: “A visual examination of an interior or exterior area, installation, or assembly to detect obvious damage, failure, or irregularity. This level of inspection is made from within touching distance unless otherwise specified. A mirror may be necessary to ensure visual access to all surfaces in the inspection area. This level of inspection is made under normally available lighting conditions such as daylight, hangar lighting, flashlight, or droplight and may require removal or opening of access panels or doors. Stands, ladders, or platforms may be required to gain proximity to the area being checked.”

(3) If the part number of the RAT deployment actuator is P/N 1703785, and the serial number is S/N 0191 through 0242 inclusive: Within 3,000 flight hours or 12 months after the effective date of this AD, whichever occurs first, reidentify the RAT deployment actuator with new P/N 1703785A in accordance with the applicable service bulletin.

Terminating Action for Repetitive Inspections

(h) Within 3,000 flight hours or 12 months after the effective date of this AD, whichever occurs first: Replace all RAT deployment actuators having P/N 1703785 and having S/N 0004, 0005, or 0101 through 190 inclusive, with modified and reidentified or new, improved actuators having P/N 1703785A, in accordance with the applicable service bulletin. Replacing all of the RAT deployment actuators terminates the repetitive inspections required by paragraph (g)(2)(ii) of this AD.

Parts Installation

(i) As of the effective date of this AD, no person may install a RAT deployment actuator having P/N 1703785 on any airplane.

Alternative Methods of Compliance (AMOCs)

(j)(1) The Manager, International Branch, ANM-116, Transport Airplane Directorate, FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

Related Information

(k) Brazilian airworthiness directives 2006-05-06, effective June 14, 2006, and 2006-05-09, effective June 19, 2006, also address the subject of this AD.

Issued in Renton, Washington, on November 24, 2006.
Kalene C. Yanamura,
Acting Manager, Transport Airplane Directorate, Aircraft Certification Service.

[FR Doc. E6-20856 Filed 12-7-06; 8:45 am]

BILLING CODE 4910-13-P